DEPARTMENT OF ENERGY

Federal Energy Regulatory Commission

[Project No. 14680-010]

Water Street Land, LLC and New England Hydropower, LLC; Notice of Transfer of Exemption

Issued October 30, 2024.

1. By letter filed August 26, 2024, New England Hydropower Company, LLC, pursuant to 18 CFR 4.106(i), informed the Commission that it is the new owner of the exemption from licensing for the Natick Pond Dam Hydroelectric Project No. 14680, originally issued March 3, 2017. The project is located on the Pawtuxet River in Kent County, Rhode Island. The transfer of an exemption does not require Commission approval.

2. New England Hydropower Company, LLC is located at 100 Cummings Center, Suite 451C, Beverly, MA 01915.

Debbie-Anne A. Reese,
Secretary.

[FR Doc. 2024-26044 Filed 11-7-24; 8:45 am]

BILLING CODE 6717-01-P